DEPARTMENT OF HOMELAND SECURITY

Transportation Security Administration

[Docket No. TSA-2009-0018]

Intent To Request Revision From OMB of One Current Public Collection of Information: Certified Cargo Screening Standard Security Program

AGENCY: Transportation Security Administration, DHS.

ACTION: 60-Day notice.

SUMMARY: The Transportation Security Administration (TSA) invites public comment on one currently approved Information Collection Request (ICR), OMB control number 1652-0053, abstracted below that we will submit to the Office of Management and Budget (OMB) for a revision in compliance with the Paperwork Reduction Act. The ICR describes the nature of the information collection and its expected burden. The collections of information that make up this ICR include: (1) Applications from entities that wish to become Certified Cargo Screening Facilities (CCSFs), Third-Party Canine-Cargo (3PK9-C) Certifiers or Certified Cargo Screening Program-Canine (CCSP-K9) Holders; (2) personally identifiable information to allow TSA to conduct security threat assessments (STA) on certain individuals employed by the CCSFs, 3PK9-C Certifiers, Certified Cargo Screening Facilities-K9 (CCSF-K9) and those authorized to conduct 3PK9-C Program activities; (3) standard security program or submission of a proposed modified security program or amendment to a security program by CCSFs and CCSF-K9s; or standards provided by TSA or submission of a proposed modified standard by 3PK9-C Certifiers; (5) recordkeeping requirements for CCSFs, CCSF-K9s and 3PK9-C Certifiers; (6) designation of a Security Coordinator (SC) by CCSFs and CCSF-K9s; and (7) significant security concerns detailing information of incidents, suspicious activities, and/or threat information by CCSFs, 3PK9-C Certifiers, and CCSP-K9 Holders.

DATES: Send your comments by February 11, 2019.

ADDRESSES: Comments may be emailed to TSAPRA@dhs.gov or delivered to the TSA PRA Officer, Information Technology (IT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

OMB Control Number 1652-0053, Certified Cargo Screening Standard Security Program, 49 CFR parts 1515, 1540, 1544, 1546, 1548, and 1549. Section 1602 of the Implementing Recommendations of the 9/11 Commission Act of 2007 ¹ (9/11 Act) required the development of a system to screen 100 percent of such cargo no later than August 2010. This requirement was implemented through TSA's regulations, including amendments to parts 1515, 1520, 1540, 1544, 1546, 1548 and adding part 1549. See 76 FR 51848 (Aug. 18, 2011). As part of these regulatory provisions, TSA certifies qualified facilities as Certified Cargo Screening Facilities (CCSF) to screen cargo as part of the Certified Cargo Screening Standard Security Program (CCSSSP).

¹ Public Law 110-53; 121 Stat. 266 (Aug. 3, 2007).

Section 1941 of the TSA Modernization Act ² amended provision in the 9/11 Act to require TSA to develop a program to enhance the screening of air cargo by leveraging the capabilities of third-party explosives detection canine teams. TSA must ensure the program provides for certified canine teams to conduct primary screening of air cargo for “air carriers, foreign air carriers, freight forwarders, and shippers.” Id.

² Division K of the FAA Reauthorization Act of 2018, Public Law 115-254; Stat. 132-3186 (Oct. 6, 2018).

Facilities-based CCSFs may screen cargo off-airport and must implement measures to ensure a secure chain of custody from the point of screening to the point at which the cargo is tendered to the aircraft operator. A CCSF-K9 is an inherently mobile capability that can screen cargo at the facility owned and operated by one of TSA's regulated entities. All CCSFs are required to engage TSA to assess whether a person or entity meets the standards of their security program. The ICR allows TSA to collect several categories of information as explained below.

In this ICR, TSA currently collects the following information:

(1) CCSF Applications. Under TSA regulations, an applicant is required to submit an application to become a CCSF at least 90 days before the intended date of operation, the contents of which are contained in 49 CFR 1549.7. In addition, once certified as a CCSF, the CCSF is required to submit any changes to the application information as they occur. CCSFs must renew their certification every 36 months by submitting a new complete application. CCSF applicants are required to provide TSA access to their records, equipment, and facilities necessary for TSA to conduct an eligibility assessment. (49 CFR 1549.7).

(2) STA Applications. TSA regulations require that CCSF applicants ensure that individuals performing cargo screening and related functions, and their supervisors have completed an STA conducted by TSA. In addition, TSA regulations require CCSF Security Coordinators and their alternates to successfully have completed an STA. TSA regulations further require these individuals to submit personally identifiable information so that TSA can perform STAs. See TSA Form 419F, previously approved under OMB control number 1652-0040 (49 CFR 1549.111, and 1549.103).

(3) Security Programs. TSA requires CCSFs to accept and operate under a standard security program provided by TSA, or submit a proposed modified security program or amendment(s) to the designated TSA official for approval initially and periodically thereafter as required. (49 CFR 1549.7).

(4) Recordkeeping. Require CCSFs to maintain records of compliance and make them available for TSA inspection (49 CFR 1549.105).

TSA is revising the collection in response to changing conditions in the air cargo industry. To meet the demand of the enhanced air cargo screening standards of the International Civil Aviation Organization (ICAO) and requirements of the TSA Modernization Act,³ TSA created the 3PK9-C program to provide an additional air cargo screening method under TSA's regulations. Under this program, canine team providers can apply to be CCSF-K9s, regulated under 49 CFR part 1549. As holders of a CCSP-K9 security program, they can contract with air carriers and standard CCSFs to screen air cargo with canine explosives detection teams. The 3PK9-C program allows non-governmental certifiers, operating under the 3PK9-C Certifier Order, to evaluate canine teams to determine whether these teams meet the TSA certification standards.

³ See text accompany n. 2 supra.

Due to the additional development of the 3PK9-C Program, the current information collection request will be revised to include the following:

(1a) 3PK9-C Certifier Applications. TSA will require initial applications and changes to information in the application for any 3PK9-C Certifier, intending to operate under the 3PK9-C Certifier Order.

(1b) CCSF-K9 Applications. Under TSA regulations, an applicant is required to submit an application to become a CCSF at least 90 days before the intended date of operation unless otherwise authorized by TSA. The contents of the initial application are contained in 49 CFR 1549.7. In addition, once certified as a CCSF, the CCSF-K9 will be required to submit an Operational Implementation Plan (OIP), described within the CCSP-K9 and any changes to the application information as they occur. CCSF-K9s must renew their certification every 36 months by submitting a new complete application. CCSF-K9 applicants will be required to provide TSA access to their records, equipment, and facilities necessary for TSA to conduct an eligibility assessment. (49 CFR 1549.7).

(2) STA Applications. TSA regulations require that individuals performing screening and related functions, their supervisors, those authorized to conduct 3PK9-C Program activities, and people supporting these functions successfully have completed an STA conducted by TSA. In addition, TSA regulations require CCSF Security Coordinators and their alternates to successfully have completed an STA. TSA regulations further require these individuals to submit personally identifiable information so that TSA can perform STAs. See TSA Form 419F, previously approved under OMB control number 1652-0040 (49 CFR 1549.111, and 1549.103).

(3a) Security Programs. TSA will require CCSF-K9s to accept and operate under a standard security program provided by TSA, or submit a proposed modified security program or amendment(s) to the designated TSA official for approval initially and periodically thereafter as required. (49 CFR 1549.7).

(3b) The 3PK9-C Certifier Order. TSA will require 3PK9-C Certifiers to accept standards provided by TSA, or submit a proposed modified standard to the designated TSA official for approval initially and periodically thereafter as required.

(4) Recordkeeping. TSA will require 3PK9-C Certifiers and CCSF-K9s to maintain records of compliance with the Order and the CFR, making them available for TSA inspection (49 CFR 1549.105).

(5) Significant Security Concerns Information. TSA will require 3PK9-C Certifiers, and CCSP-K9 Holders to report to TSA incidents, suspicious activities, and/or threat information.

(6) Security Coordinator. TSA will require 3PK9-C Certifiers and CCSF-K9s to provide the name and contact information of the Security Coordinator (SC) and one or more designated alternates at the corporate or ownership level.

Estimated Burden Hours

As noted above, TSA has identified several separate information collections under this ICR. The 3PK9-C Certifiers information collections represent an estimated average of 79 respondents annually, including security threat assessment applicants for 3PK9-C, for an average annual hour burden of 2,555 hours. The CCSP-K9 Holder and Certified 3PK9-C Team information collections represent an estimated average of 567 respondents annually, including security threat assessment applicants for CCSP-K9 Holder and Certified 3PK9-C Teams, for an average annual hour burden of 496 hours. The CCSF information collections represent an estimated average of 6,320 respondents annually, for an average annual hour burden of 6,124 hours. Collectively, these information collections represent an estimated average of 6,966 respondents annually, for an average annual hour burden of 9,175 hours.

Dated: December 6, 2018.
Christina A. Walsh,
TSA Paperwork Reduction Act Officer, Information Technology.

[FR Doc. 2018-26931 Filed 12-12-18; 8:45 am]

BILLING CODE 9110-05-P